DEPARTMENT OF HEALTH AND HUMAN SERVICES

National Institutes of Health

Proposed Collection; Comment Request; a Case-Control Study of Testicular Germ Cell Cancer Among Military Servicemen

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: A Case-Control Study of Testicular Germ Cell Cancer Among Military Servicemen. Type of Information Collection Request: New. Need and Use of Information Collection: This Study will seek to determine the causes of testicular germ cell cancer. The incidence rate of testicular cancer has been increasing for most of the twentieth century. It is the most common tumor among men between the ages of 15 and 35 years, yet its risk factors remain poorly understood. Servicemen are being studied because they are the right age group and testicular cancer is the common cancer among men in the service. The cancer's relatively young age of onset and its association with several congenital anomalies indicate that events during in-utero life may place men at risk of this tumor. Therefore, this study seeks to interview the mothers of men who developed testicular cancer and mothers of men who did not develop testicular cancer. Mothers will asked about events surrounding the pregnancy with the son and early live events. Frequency of Response: One interview is requested. Affected Public: Individuals. Type of Respondents: Mothers of servicemen who were diagnosed with testicular cancer and mothers of serviceman who were not diagnosed with testicular cancer. The annual reporting burden is as follows: Estimated Number of Respondents: 1,600; Estimated Number of Responses per Respondent: 1; Average Burden Hours Per Response: .75; and Estimated Total Annual Burden Hours Requested: 1200. The annualized cost to respondents is estimated at: $0. There are no Capital Costs to report. There are no Operating or Maintenance Costs to report.

Request for Comments

Written comments and/or suggestion from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Katherine A. McGlynn, Environmental Epidemiology Branch, DCEG, NCI, NIH, Executive Plaza South, Room 7060, 6120 Executive Boulevard, Bethesda, MD 20892-7234, or call non-toll-free number (301) 435-4918 or E-mail your request, including your address: mcglynnk@mail.nih.gov.

Comments Due Date

Comments regarding this information collection are best assured of having their full effect if received on or before October 22, 2001.

Dated: August 15, 2001.
Reesa L. Nichols,
NCI Project Clearance Liaison.

[FR Doc. 01-21263 Filed 8-22-01; 8:45 am]

BILLING CODE 440-01-M